DEPARTMENT OF ENERGY

Federal Energy Regulatory Commission

[Docket Nos. CP05-15-002, CP05-16-002, and CP05-17-002]

Caledonia Energy Partners, L.L.C.; Notice of Abbreviated Application of Caledonia Energy Partners, L.L.C., To Amend Certificate of Public Convenience and Necessity Authorizing Construction and Operation of a Natural Gas Storage Facility

February 21, 2007.

Take notice that on February 8, 2007, Caledonia Energy Partners, L.L.C. (Caledonia) filed with the Commission an abbreviated application pursuant to Section 7(c) of the Natural Gas Act (NGA) to amend its Certificates of Public Convenience and Necessity issued by the Commission on April 19, 2005. Caledonia Energy Partners, L.L.C., 111 FERC ¶ 61,095 (2005), as amended on April 12, 2006, Caledonia Energy Partners, L.L.C., 115 FERC 62,060 (2006). The abbreviated application requests authorization for minor modifications to certain of the storage facilities in Lowndes and Monroe Counties, Mississippi, as well as certain modifications to the pro forma tariff approved in the above-captioned dockets.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 8, 2007.

Magalie R. Salas,
Secretary.

[FR Doc. E7-3341 Filed 2-26-07; 8:45 am]

BILLING CODE 6717-01-P